DEPARTMENT OF HEALTH AND HUMAN SERVICES

[Document Identifier: OS-0990-New; 60-day Notice]

Notice of Request for Public Comments

AGENCY: Office of the National Coordinator for Health Information Technology (ONC), Office of the Secretary, Department of Health and Human Services.

Agency Information Collection Request: 60-Day Public Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office at (202) 690-6162. Written comments and recommendations for the proposed information collections must be directed to the OS Paperwork Clearance Officer at the above e-mail address within 60 days.

Proposed Information Collection: ONC Temporary Certification Program's Application, Reporting and Records Requirements—OMB No. 0990-NEW- Office of the National Coordinator for Health Information Technology.

Abstract: The Office of the National Coordinator for Health Information Technology (ONC) received emergency approval from OMB under section 3507(j) of the Paperwork Reduction Act (PRA) for this collection of information on June 14, 2010 (OMB No. 0990-0358). This emergency approval expires on December 31, 2010. Accordingly, ONC seeks public comment and OMB's approval for this collection of information under section 3504(h) of the PRA.

In a notice of proposed rulemaking implementing section 3001(c)(5) of the Public Health Service Act, ONC proposed to establish two certification programs, a temporary certification program and a permanent certification program. On June 24, 2010, a final rule was published that established the temporary certification program (“Establishment of the Temporary Certification Program for Health Information Technology,” 75 FR 36158) (Temporary Certification Program final rule).

The temporary certification program, which is anticipated to sunset on December 31, 2011, requires: applicants that wish to become ONC-Authorized Testing and Certification Bodies (ONC-ATCBs) to respond to and submit an application; collection and reporting requirements for ONC-ATCBs, and requirements for ONC-ATCBs to retain records of tests and certifications and disclose the final results of all completed tests and certifications (i.e., provide copies of all completed tests and certifications) to ONC at the conclusion of testing and certification activities under the temporary certification program.

Estimated Annualized Burden Hours

Application for ONC-ATCB Status under the Temporary Certification Program
Type of respondent | Form name | Number of respondents | Number of responses per respondent | Burden hours per response | Total burden hours
Conformant Applicant | ONC-ATCB Application | 3 | 1 | 4.5 | 13.5
Partially Conformant Applicant | ONC-ATCB Application | 2 | 1 | 400.5 | 801
Total |  |  |  |  | 814.5

ONC-ATCB Collection and Reporting of Information Related to Complete EHR and/or EHR Module Certifications
Type of respondent | Number of respondents | Number of responses per respondent | Average burden hours per response | Total burden hours
ONC-ATCB Testing and Certification Results | 5 | 52 | 1 | 260

ONC-ATCB Retention of Testing and Certification Records and the Submission of Copies of Records to ONC
Type of respondent | Number of respondents | Number of responses per respondent | Average burden hours per response | Total burden hours
ONC-ATCB Testing and Certification Records | 5 | 1 | 8 | 40

Seleda Perryman,
Office of the Secretary, Paperwork Reduction Act Clearance Officer.

[FR Doc. 2010-20123 Filed 8-13-10; 8:45 am]

BILLING CODE 4150-45-P